DEPARTMENT OF THE TREASURY

Office of D.C. Pensions; Proposed Collection: Comment Request

ACTION: Notice and Request for Comments.

SUMMARY: The Department of the Treasury, as part of its continuing efforts to reduce paperwork and respondent burden, invites the general public and other Federal agencies to take this opportunity to comment on proposed and/or continuing information collections, as required by the Paperwork Reduction Act of 1995, Public Law 104-13 (44 U.S.C. 3506 (c)(2)(A)). Currently, the Office of D. C. Pensions within the Department of the Treasury is soliciting comments concerning the D. C. Pension Plans Customer Satisfaction Survey.

DATES: Written comments should be received on or before February 19, 2002 to be assured of consideration.

ADDRESS: Direct all written comments to the Department of the Treasury, Office of D. C. Pensions, Kristi H. Greenslade, 1500 Pennsylvania Avenue, NW., Room 6131 Metropolitan Square, Washington, DC 20220, (202) 622-0800.

FOR FURTHER INFROMATION CONTACT: Requests for additional information or copies of the form and instructions should be directed to Office of D. C. Pensions, Kristi H. Greenslade, 1500 Pennsylvania Avenue, NW, Room 6131 Metropolitan Square, Washington, DC 20220, (202) 622-0800.

SUPPLEMENTARY INFORMATION: Title: D. C. Pension Plans Customer Satisfaction Survey.

Abstract: Under the National Capital Revitalization and Self-Government Improvement Act of 1997, Title XI of the Balanced Budget Act of 1997 [Pub. L. 105-33], as amended, (the Act), the U.S. Department of the Treasury assumed certain responsibilities for some of the District of Columbia's pension plans, including administration of fund assets and distribution of pension benefits. Treasury is responsible for paying the benefits earned through June 30, 1997, under the Police Officers and Firefighters' Retirement Plan and the Teachers' Retirement Plan. The District of Columbia is responsible for paying benefits earned after June 30, 1997, through its replacement plans. Treasury is also responsible for paying all benefits earned under the Judges' Retirement Plan.

The Office of D. C. Pensions seeks to collect information from pension benefits recipients in order to establish a customer service baseline and for use in developing a customer service plan. The survey also will be used to gauge improvements in customer service. This is a new program for Treasury. The Office of D. C. Pensions plans to develop a comprehensive customer service strategy and this survey is part of that effort.

Current Actions: This is a new collection. The information being collected will be used to determine the level of satisfaction with current service delivery, identify areas for improvement and provide overall information for developing a comprehensive customer service plan for the Office of D. C. Pensions programs.

Type of Review: New.

Affected Public: Individuals or households.

Estimated Number of Respondents: 2,157.

Estimated Time per Respondent: 15 minutes.

Estimated Total Annual Burden Hours: 539 hours.

Request for Comments

Comments submitted in response to this notice will be summarized and/or included in the request for OMB approval. All comments will become a matter of public record. Comments are invited on (a) whether the collection of information is necessary for the proper performance of the functions of the agency, including whether the information shall have practical utility; (b) the accuracy of the agency's estimate of the burden of the collection of information; (c) ways to enhance the quality, utility, and clarity of the information to be collected; (d) ways to minimize the burden of the collection of information of respondents, including through the use of automated collection techniques or other forms of information technology; and (e) estimates of capital or start up costs and cost of operation, maintenance, and purchase of services to provide information.

Dated: December 17, 2001.
Mary Beth Shaw,
Director, Office of D. C. Pensions, Department of the Treasury.

[FR Doc. 01-31419 Filed 12-20-01; 8:45 am]

BILLING CODE 4810-25-P